DEPARTMENT OF COMMERCE

Foreign-Trade Zones Board

[Docket A(27f)-16-01]

Foreign-Trade Zone 8—Toledo, OH, Subzone 8H—Sunoco, Inc. (Crude Oil Refinery Complex), Request for Minor Modification

An application has been submitted to the Foreign-Trade Zones Board (the Board) by Sunoco, Inc., operator of FTZ Subzone 8H, pursuant to § 400.27(f) of the Board's regulations, for a minor modification of the list of products that can be produced from non-privileged (NPF) inputs referenced in Restriction #2 of FTZ Board Order 1136 (66 FR 6581, 1/22/01), authorizing Subzone 8H at Sunoco's oil refinery complex in Toledo, Ohio. The application was submitted pursuant to the provisions of the Foreign-Trade Zones Act, as amended (19 U.S.C. 81a-81u), and the regulations of the Board (15 CFR part 400). It was formally filed on March 30, 2001.

The company is now requesting to add two additional refinery products—nonene and dodecene (commonly known as propylene trimer and propylene tetramer, respectively)—to the list of petrochemical feedstocks and refinery by-products that can be produced from NPF status inputs (e.g., crude oil) at the refinery. The list is referenced as Appendix “C” of the Examiner's Report in Board Order 1136, Restriction #2.

The request indicates that these products were misclassified under HTSUS subheading 2707.50.00 (other aromatic hydrocarbon mixtures—duty-free) in the list of requested products in the original subzone application. The appropriate HTSUS subheading would be 2901.29.1050 (unsaturated acyclic hydrocarbons, other, other), which became duty-free in 1999.

Public comment on the proposal is invited from interested parties. Submissions (original and 3 copies) shall be addressed to the Board's Executive Secretary at the address below. The closing period for their receipt is May 9, 2001. Rebuttal comments in response to material submitted during the foregoing period may be submitted during the subsequent 15-day period (to May 24, 2001).

A copy of the application and accompanying exhibits will be available for public inspection at each of the following locations: Office of the Executive Secretary, Foreign-Trade Zones Board, U.S. Department of Commerce, Room 4008, 14th & Pennsylvania Avenue, NW, Washington, DC 20230.

Dated: April 2, 2001.
Dennis Puccinelli,
Executive Secretary.

[FR Doc. 01-8663 Filed 4-6-01; 8:45 am]

BILLING CODE 3510-DS-M